DEPARTMENT OF LABOR

Occupational Safety and Health Administration

[Docket No. OSHA-2010-0056]

OSHA-7 Form (“Notice of Alleged Safety and Health Hazard”); Extension of the Office of Management and Budget's (OMB) Approval of Information Collection (Paperwork) Requirements

AGENCY: Occupational Safety and Health Administration (OSHA), Labor.

ACTION: Notice; correction.

SUMMARY: The Occupational Safety and Health Administration (OSHA) published a document in the Federal Register on January 24, 2014 (79 FR 4180), soliciting public comments concerning its proposal to extend the Office of Management and Budget's (OMB) approval of the information collection requirements specified in the OSHA-7 Form. The document contained an incorrect docket number. This notice corrects the docket number.

FOR FURTHER INFORMATION CONTACT: Todd Owen or Theda Kenney, Directorate of Standards and Guidance, OSHA, U.S. Department of Labor, Room N-3909, 200 Constitution Avenue NW., Washington, DC 20210; telephone (202) 693-2222.

Correction:

In the Federal Register of January 24, 2014 (79 FR 4180-4181), correct the docket number as described below.

1. On page 4180, in the third line of the heading section, change the Docket No. to read:

[Docket No. OSHA-2010-0056]

2. On page 4180, in the first column, change the paragraph titled “Mail, hand delivery, express mail, or messenger or courier service” to read:

When using this method, you must submit a copy of your comments and attachments to the OSHA Docket Office, Docket No. OSHA-2010-0056, U.S. Department of Labor, Occupational Safety and Health Administration, Room N-2625, 200 Constitution Avenue NW., Washington, DC 20210. Deliveries (hand, express mail, messenger, and courier service) are accepted during the Department of Labor's and Docket Office's normal business hours, 8:15 a.m. to 4:45 p.m., e.t.

3. On page 4180, in the second column, change the paragraph titled “Instructions” to read:

All submissions must include the Agency name and the OSHA docket number (OSHA-2010-0056) for the Information Collection Request (ICR). All comments, including any personal information provided, are placed in the public docket without change, and may be made available online at http://www.regulations.gov. For further information on submitting comments see the “Public Participation” heading in the section of this notice titled SUPPLEMENTARY INFORMATION.

4. On page 4181, in the second column, change the first paragraph under “IV Public Participation—Submission of Comments ” to read:

You may submit comments in response to this document as follows: (1) Electronically at http://www.regulation.gov, which is the Federal eRulemaking Portal; (2) by facsimile (fax); or (3) by hard copy. All comments, attachments, and other materials must identify the Agency name and the OSHA docket number for the ICR (Docket No. OSHA-2010-0056). You may supplement electronic submissions by uploading document files electronically. If you wish to mail additional materials in reference to an electronic or facsimile submission, you must submit them to the OSHA Docket Office (see the section of this notice title ADDRESSES). The additional materials must clearly identify your electronic comments by your name, date, and the docket number so the Agency can attach them to your comments.

Authority and Signature

David Michaels, Ph.D., MPH, Assistant Secretary of Labor for Occupational Safety and Health, directed the preparation of this notice. The authority for this notice is the paperwork Reduction Act of 1995 (44 U.S.C. 3506 et seq.) and Secretary of Labor's Order No. 1-2012 (77 FR 3912).

Signed at Washington, DC, on February 7, 2014.
David Michaels,
Assistant Secretary of Labor for Occupational Safety and Health.

[FR Doc. 2014-03123 Filed 2-12-14; 8:45 am]

BILLING CODE 4510-26-P